DEPARTMENT OF DEFENSE

Department of the Army; Corps of Engineers

Intent To Prepare a Draft Environmental Impact Statement for the Proposed Rio del Oro Project, in Sacramento County, CA, Corps Permit Application Number 199900590

AGENCY: Department of the Army, U.S. Army Corps of Engineers,DOD.

ACTION: Notice of intent.

SUMMARY: The U.S. Army Corps of Engineers (Corps), Sacramento District, will prepare a Draft Environmental Impact Statement (DEIS) for the proposed Rio del Oro project, a proposed residential and commercial development in Rancho Cordova, Sacramento County, CA. Elliot Homes, Inc. has applied for a permit to fill approximately 47 acres of waters of the United States, including vernal pools, and other wetlands.

DATES: Public scoping meetings will be held on February 26, 2004. The first meeting will be held at Rancho Cordova's City Hall, at 1:30 p.m., and the second meeting will be at Mills Station, at 6:30 p.m.

FOR FURTHER INFORMATION Contact: Questions about the proposed action and DEIS can be answered by Mr. Justin Cutler, (916) 557-5258, justin.cutler@usace.army.mil, 1325 J Street, Room 1480, Sacramento, CA 95814-2922.

SUPPLEMENTARY INFORMATION: The applicant has applied for a Department of the Army permit under section 404 of the Clean Water Act to construct a residential and commercial development. The proposed project would be developed on approximately 3,828 acres south of Highway 50 in Rancho Cordova, Sacramento County. The project site is located south of White Rock Road, north of Douglas Road, and east of Sunrise Boulevard. The project consists of approximately 1200 high, medium and low density residential homes, 38 retail/commercial offices, 9 parks, 10 schools, and 2 wetland preserves and other open space areas. The proposed project site has a past history of grazing, landfill activities, gold mining, and rocket fuel testing. Approximately one-third of the site is grasslands, which have been used for grazing and contain vernal pool complexes and the upper reaches of Morrison Creek. Past gold mining in the 1920s and 1950s, and past landfill activities, have altered the remaining two-thirds of the site. Since mining ceased, the site was used to burn excess rocket fuel and test energetic material. Due to the rocket testing and propellant burning on the site, soil and groundwater at the site are known to contain trichloroethene (TCE) and other volatile organic compounds. The California Department of Toxic Substances Control has issued Imminent and Substantial Endangerment Orders to address the issue of TCE detected in a county well. The site has been divided into eleven primary study areas with responsibility for performing the required investigations divided between McDonnell Douglas and Aerojet General Corporation based upon previous usage. Soil and groundwater remediation continues to occur at the site.

A total of 74.61 acres of waters of the United States have been identified on the project site, including 37.02 acres of vernal pools, 20.44 acres of seasonal wetlands, 6.43 acres of riparian wetland, 6.47 acres of ponds, and 4.25 acres of stream channels. The applicant has applied to fill approximately 47 acres of these waters to construct the project. A 505-acre vernal pool/wetland preserve in the southern portion of the project, where the highest concentration of vernal pools exists on the project site, would be preserved. The preserve would contain 27.62 acres of waters of the United States. The applicant proposes to create approximately 22 acres of additional vernal pools in the preserve.

The Corps' public involvement program includes several opportunities to provide oral and written comments (See DATES). Affected Federal, state, local agencies, Indian tribes, and other interested private organizations and parties are invited to participate. Currently, potentially significant issues to be analyzed in depth in the DEIS include, loss of waters of the United States, including wetlands, cultural resources, biological resources, hazardous materials, air quality, surface and groundwater, water quality, noise, aesthetics, and socio-economic effects.

Except for on-site preserve alternatives, no specific on-site or off-site project alternatives have been identified. However, alternatives, including the no-project alternative, other locations and other site configurations, will be evaluated in the DEIS and in accordance with the section 404(b)(1) guidelines.

The Corps has initiated formal consultation with the U.S. Fish and Wildlife Service, under section 7 of the Endangered Species Act, for five Federally threatened or endangered species and one species proposed for listing that may be affected by the project. The Corps will also be consulting with the State Historic Preservation Officer under section 106 of the National Historic Preservation Act for potential impacts to properties listed, or potentially eligible for listing, on the National Register of Historic Places.

The Environmental Impact Statement will be prepared as a joint document with the City of Rancho Cordova. The City is the local agency responsible for preparing an Environmental Impact Report in compliance with the California Environmental Quality Act. The DEIS is expected to be released in March of 2005.

Luz D. Ortiz,
Army Federal Register Liaison Officer.

[FR Doc. 04-2501 Filed 2-4-04; 8:45 am]

BILLING CODE 3710-EH-P